DEPARTMENT OF COMMERCE

International Trade Administration

[C-570-085]

Certain Quartz Surface Products From the People's Republic of China: Rescission of Countervailing Duty Administrative Review; 2024

AGENCY: Enforcement and Compliance, International Trade Administration, Department of Commerce.

SUMMARY: The U.S. Department of Commerce (Commerce) is rescinding the administrative review of the countervailing duty (CVD) order on certain quartz surface products from the People's Republic of China (China). The period of review (POR) is January 1, 2024, through December 31, 2024.

DATES: Applicable December 12, 2025.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

On June 30, 2025, Commerce published in the Federal Register a notice of opportunity to request an administrative review of the CVD order on certain quartz surface products from China.¹ Commerce received a timely request for review of the CVD order from Karinastone (Malaysia) Sdn Bhd (Karinastone), an exporter of the subject merchandise.²

¹ See Antidumping or Countervailing Duty Order, Finding, or Suspended Investigation; Opportunity to Request Administrative Review and Join Annual Inquiry Service List, 90 FR 27841 (June 30, 2025).

² See Karinastone's Letter, “Karinastone Request for Administrative Review,” dated July 31, 2025.

On August 22, 2025, in accordance with section 751(a) of the Tariff Act of 1930, as amended (the Act) and 19 CFR 351.221(c)(1)(i), Commerce published the initiation notice in the Federal Register.³ On September 12, 2025, we notified interested parties that information from U.S. Customs and Border Protection (CBP) indicated that there were no POR entries of the subject merchandise.⁴ Further, on September 22, 2025, we notified interested parties of our intent to rescind this administrative review due to a lack of suspended entries.⁵ We received no comments from interested parties regarding our intent to rescind.

³ See Initiation of Antidumping and Countervailing Duty Administrative Reviews, 90 FR 41043 (August 22, 2025).

⁴ See Memorandum, “Customs Entry Data from U.S. Customs and Border Protection,” dated September 12, 2025.

⁵ See Memorandum, “Notice of Intent to Rescind Review, in Part,” dated September 22, 2025.

Rescission of Review

Pursuant to 19 CFR 351.213(d)(3), it is Commerce's practice to rescind an administrative review of a CVD order where it concludes that there were there are no entries of subject merchandise during the POR for which liquidation is suspended.⁶ Normally, upon completion of an administrative review, the suspended entries are liquidated at the CVD rates calculated for the review period.⁷ Therefore, for an administrative review to be conducted, there must be a reviewable, suspended entry that Commerce can instruct CBP to liquidate at the calculated CVD rates for the review period.⁸ As noted above, there were no suspended entries of subject merchandise for the company under review during the POR. Accordingly, in the absence of reviewable, suspended entries of subject merchandise during the POR, we are hereby rescinding this administrative review in its entirety, in accordance with 19 CFR 351.213(d)(3).

⁶ See, e.g., Welded Line Pipe from the Republic of Turkey: Rescission of the Antidumping Duty Administrative Review; 2019-2020, 87 FR 27988 (May 10, 2022); see also, e.g., Certain Softwood Lumber Products from Canada: Final Results and Final Rescission, in Part, of the Countervailing Duty Administrative Review, 2020, 87 FR 48455 (August 9, 2022); and Certain Non-Refillable Steel Cylinders from the People's Republic of China: Rescission of Countervailing Duty Administrative Review; 2020-2021, 87 FR 64008 (October 21, 2022).

⁷ See 19 CFR 351.212(b)(2).

⁸ See 19 CFR 351.212(d)(3).

Cash Deposit Requirements

As Commerce has proceeded to a final rescission of this administrative review, no cash deposit rates will change. Accordingly, the current cash deposit requirements shall remain in effect until further notice.

Assessment

Commerce will instruct CBP to assess countervailing duties on all appropriate entries. Countervailing duties shall be assessed at rates equal to the cash deposit rate of estimated countervailing duties required at the time of entry, or withdrawal from warehouse, for consumption, in accordance with 19 CFR 351.212(c)(1)(i). Commerce intends to issue assessment instructions to CBP no earlier than 35 days after the date of publication of this rescission notice in the Federal Register.

Notification Regarding Administrative Protective Order

This notice serves as a final reminder to parties subject to administrative protective order (APO) of their responsibility concerning the return or destruction of proprietary information disclosed under APO in accordance with 19 CFR 351.305, which continues to govern business proprietary information in this segment of the proceeding. Timely written notification of the return or destruction of the APO materials or conversion to judicial protective order is hereby requested. Failure to comply with regulations and terms of an APO is a violation, which is subject to sanction.

Notification to Interested Parties

This notice is issued and published in accordance with sections 751(a)(1) and 777(i)(l) of the Act, and 19 CFR 351.213(d)(4).

Dated: December 9, 2025.
Scot Fullerton,
Acting Deputy Assistant Secretary for Antidumping and Countervailing Duty Operations.

[FR Doc. 2025-22591 Filed 12-11-25; 8:45 am]

BILLING CODE 3510-DS-P